DEPARTMENT OF ENERGY

Federal Energy Regulatory Commission

[Project No. 2680-113]

Consumers Energy Company; DTE Electric Company; Notice of Application Tendered for Filing With the Commission and Establishing Procedural Schedule for Licensing and Deadline for Submission of Final Amendments

Take notice that the following hydroelectric application has been filed with the Commission and is available for public inspection.

a. Type of Application: New Major License.

b. Project No.: 2680-113.

c. Date Filed: June 28, 2017.

d. Applicant: Consumers Energy Company and DTE Electric Company (Consumers Energy and DTE Companies).

e. Name of Project: Ludington Pumped Storage Project.

f. Location: The existing project is located on the east shore of Lake Michigan in the townships of Pere Marquette and Summit, Mason County, Michigan and in Port Sheldon, Ottawa County, Michigan. The Ottawa County portion is a 1.8-acre satellite recreation site, located about 70 miles south of the project. The project does not affect federal lands.

g. Filed Pursuant to: Federal Power Act, 16 U.S.C. 791 (a)-825(r).

h. Applicant Contact: David McIntosh, Manager, Consumers Energy Company, Hydro and Renewable Generation, 330 Chestnut Street, Cadillac, MI 49601; Telephone (231) 779-5506, email—David.McIntosh@cmsenergy.com.

i. FERC Contact: Shana Wiseman, (312) 596-4468 or shana.wiseman@ferc.gov.

j. This application is not ready for environmental analysis at this time.

k. The Project Description: The Ludington Project is a pumped storage project that consists of: (1) An 842-acre upper reservoir with a gross storage capacity of 82,300 acre-feet at an elevation of 942 feet National Geodetic Vertical Datum (NGVD); (2) a concrete intake structure located in the upper reservoir; (3) six, 1,300-foot-long steel penstocks varying in diameter from 28.5 feet at the intake to 24 feet at the powerhouse; (4) a concrete powerhouse with six bays each housing a pump-turbine/motor-generator unit; (5) a lower reservoir (Lake Michigan) with a surface area of about 22,300 square miles and a mean depth of 279 feet; (6) two 1,600-foot-long jetties; (7) an approximately 1,700-foot-long breakwater located about 2,700 feet from the shore; and (8) appurtenant facilities. Additionally, a satellite recreation site (Pigeon Lake North Pier) is located about 70 miles south of the project. The recreation facility includes a parking area and a 4,600-foot-long boardwalk.

The existing Ludington Project is operated to generate during peak demand periods. Generation usually occurs during the day with the upper reservoir partially replenished at night during pumping. The project has an installed capacity of 1,785 megawatts with an average annual generation of approximately 2,624,189 megawatt hours.

l. Locations of the Application: A copy of the application is available for review at the Commission in the Public Reference Room or may be viewed on the Commission's Web site at http://www.ferc.gov using the “eLibrary” link. Enter the docket number excluding the last three digits in the docket number field to access the document. For assistance, please contact FERC Online Support at FERCOnlineSupport@ferc.gov, (866) 208-3676 (toll free), or (202) 502-8659 (TTY). A copy is also available for inspection and reproduction at the address in item (h) above.

m. You may also register online at http://www.ferc.gov/docs-filing/esubscription.asp to be notified via email of new filings and issuances related to this or other pending projects. For assistance, contact FERC Online Support.

n. Procedural Schedule:

The application will be processed according to the following preliminary Hydro Licensing Schedule. Revisions to the schedule may be made as appropriate.

Milestone | Target date
Notice of Acceptance/Notice of Ready for Environmental Analysis | September 2017.
Filing of recommendations, preliminary terms and conditions, and fishway prescriptions | November 2017.
Commission issues Non-Draft Environmental Assessment (EA) | April 2018.
Comments on EA | May 2018.
Modified terms and conditions | July 2018.

o. Final amendments to the application must be filed with the Commission no later than 30 days from the issuance date of the notice of ready for environmental analysis.

Dated: July 10, 2017.
Kimberly D. Bose,
Secretary.

[FR Doc. 2017-14819 Filed 7-13-17; 8:45 am]

BILLING CODE 6717-01-P